DEPARTMENT OF COMMERCE

National Oceanic and Atmospheric Administration

50 CFR Parts 600 and 660

[Docket No. 011231309-2090-03; I.D. 121301A]

RIN 0648-A069

Magnuson-Stevens Act Provisions; Fisheries off the West Coast States and in the Western Pacific; Pacific Coast Groundfish Fishery; Groundfish Fishery Management Measures; Correction

AGENCY: National Marine Fisheries Service (NMFS), National Oceanic and Atmospheric Administration (NOAA), Commerce.

ACTION: Correction to the final rule; 2002 Pacific Coast groundfish fishery specifications and management measures.

SUMMARY: This document contains corrections to the final rule implementing the 2002 Pacific Coast groundfish fishery specifications and management measures published on March 7, 2002.

DATES: Effective 0001 hours local time (l.t.) March 1, 2002, until the 2003 annual specifications and management measures are effective, unless modified, superseded, or rescinded through a publication in the Federal Register. Section 660.323, paragraph (a)(2)(ii)(A) is effective 0001 hours l.t. March 1, 2002.

FOR FURTHER INFORMATION CONTACT: Yvonne deReynier, NMFS, (206)-526-6140.

SUPPLEMENTARY INFORMATION:

Background

The final rule for the 2002 specifications and management measures for groundfish taken in the U.S. exclusive economic zone and state waters off the coasts of Washington, Oregon, and California, as authorized by the Pacific Coast Groundfish Fishery Management Plan, was published in the Federal Register on March 7, 2002 (67 FR 10490). This final rule contained errors that require correction.

Corrections

In the rule FR Doc. 02-5302, in the issue of Thursday, March 7, 2002 (67 FR 10490) make the following corrections:

1. On page 10490, in the first column, the DATES section is corrected to read as set forth in the DATES section of this document.

2. On page 10522, in the second column, Section IV., paragraph D.(3)(b), the first sentence is corrected to read as follows:

* * * * *

IV. * * *

D. * * *

(3) * * *

(b) “Recreational fishing for lingcod is closed between January 1 and March 15, and between October 16 and December 31.”

* * * * *

3. On page 10525, in the third column, amendatory instruction 2 and regulatory text are corrected to read as follows:

“2. In § 660.323, paragraph (a)(2)(ii)(A) is revised to read as follows:”

§ 660.323 Catch restrictions.

(a) * * *

(2) * * *

(ii) * * *

(A) Season dates. North of 36° N. lat., the primary sablefish season for limited entry, fixed gear vessels begins at 12 noon l.t. on April 1 and ends at 12 noon l.t. on October 31, unless otherwise announced by the Regional Administrator.

* * * * *

Dated: March 25, 2002.
Rebecca Lent,
Deputy Assistant Administrator for Regulatory Programs, National Marine Fisheries Service.

[FR Doc. 02-7711 Filed 3-29-02; 8:45 am]

BILLING CODE 3510-22-S